DEPARTMENT OF HEALTH AND HUMAN SERVICES

Health Resources and Services Administration

Agency Information Collection Activities: Submission for OMB Review; Comment Request

AGENCY: Health Resources and Services Administration, HHS.

ACTION: Correction of total burden hours.

SUMMARY: The Health Resources and Services Administration published an Agency Information Collection document in the Federal Register of July 31, 2007 (FR Doc. E7-14680), on page 41759, regarding Bureau of Primary Health Care (BPHC) Uniform Data System (OMB No. 0915-0193). In the burden table, the total burden hours published are incorrect.

Correction

In the Federal Register issue of July 31, 2007, FR Doc. E7-14680), on page 41759, correct the Total Burden Hours as follows:

Type of report | Total burden hours
Universal report | 58,104
Grant report | 2,700
Total | 60,804

Dated: August 15, 2007.
Alexandra Huttinger,
Acting Director, Division of Policy Review and Coordination.

[FR Doc. E7-16370 Filed 8-20-07; 8:45 am]

BILLING CODE 4165-15-P